DEPARTMENT OF COMMERCE

National Oceanic and Atmospheric Administration

50 CFR Part 648

[Docket No. 110707371-2136-02]

RIN 0648- XB145

Fisheries of the Northeastern United States; Atlantic Mackerel, Squid, and Butterfish Fisheries; Closure of the Trimester 1 Longfin Squid Fishery

AGENCY: National Marine Fisheries Service (NMFS), National Oceanic and Atmospheric Administration (NOAA), Commerce.

ACTION: Temporary rule; closure.

SUMMARY: NMFS announces the closure of the directed fishery for longfin squid (longfin) in the Exclusive Economic Zone (EEZ) for the remainder of Trimester 1, effective 0001 hours, April 17, 2012. Vessels issued a Federal permit to harvest longfin may not fish for, possess, or land more than 2,500 lb (1.13 mt) of longfin per trip for the remainder of Trimester 1 (through April 30, 2011). This action is necessary to prevent the longfin fishery from exceeding the butterfish mortality cap for Trimester 1.

DATES: Effective 0001 hours, April 17, 2012, through 2400 hours, April 30, 2012.

FOR FURTHER INFORMATION CONTACT: Lindsey Feldman, Fishery Management Specialist, 978-675-2179, Fax 978-281-9135.

SUPPLEMENTARY INFORMATION: Regulations governing the longfin and butterfish fisheries are found at 50 CFR part 648. The regulations require specifications for maximum sustainable yield, initial optimum yield, allowable biological catch (ABC), domestic annual harvest (DAH), domestic annual processing, joint venture processing, and total allowable levels of foreign fishing for the species managed under the Atlantic Mackerel, Squid, and Butterfish Fishery Management Plan (FMP). The procedures for setting the annual initial specifications are described in § 648.22.

The longfin DAH for the 2012 fishing year (FY) is 22,220 mt, and is allocated into three trimesters: Trimester 1 (January 1-April 30) is allocated 43 percent of the quota (9,555 mt); Trimester 2 (May 1-August 31) is allocated 17 percent of the quota (3,777 mt); and Trimester 3 (September 1-December 31) is allocated 40 percent of the quota (8,888 mt) (77 FR 16472, March 21, 2012).

The regulations also require the specification of a butterfish mortality cap in the longfin fishery, which is equal to 75 percent of the butterfish ABC, and accounts for all butterfish discards and landings caught on trips that land over 2,500 lb (1.13 mt) of longfin. The remaining 25 percent of the butterfish ABC is allocated for butterfish landed in the directed longfin fishery, as well as in other fisheries, including trips landing less than 2,500 lb (1.13 mt) of longfin. The butterfish ABC for FY 2012 is 1,811 mt, which corresponds to a butterfish mortality cap of 1,436 mt (75 percent of 1,811 mt). The butterfish mortality cap is also allocated by trimester: Trimester 1 is allocated 65 percent of the butterfish mortality cap (933.4 mt); Trimester 2 is allocated 3.3 percent (47.4 mt); and Trimester 3 is allocated 31.7 percent (455.2 mt).

Section 648.24 requires NMFS to close the directed longfin fishery in the EEZ when 80 percent of the Trimester I butterfish mortality cap (747 mt) is projected to be harvested. NMFS is further required to notify, in advance of the closure, the Executive Directors of the Mid-Atlantic, New England, and South Atlantic Fishery Management Councils; mail notification of the closure to all holders of longfin permits at least 72 hr before the effective date of the closure; and publish notification of the closure in the Federal Register.

This action announces that NMFS has determined, based on catch data from observed trips, dealer reports, and other available information, that 80 percent of the Trimester 1 butterfish mortality cap is projected to be harvested. Therefore, effective 0001 hours, April 17, 2012, the Trimester 1 directed longfin fishery is closed and vessels issued Federal permits for longfin may not retain or land more than 2,500 lb (1.13 mt) of longfin per trip or calendar day. The directed fishery will reopen at 0001 hours, May 1, 2012.

Classification

This action is required by 50 CFR part 648, and is exempt from review under Executive Order 12866.

The Assistant Administrator for Fisheries, NOAA (AA), finds good cause pursuant to 5 U.S.C. 553(b)(B) to waive prior notice and the opportunity for public comment because it would be impracticable and contrary to the public interest. This action closes the Trimester 1 directed longfin fishery through April 30, 2012, under current regulations. The regulations at § 648.24 require such action to ensure that longfin vessels do not exceed the 2012 Trimester 1 butterfish mortality cap. Data indicating the longfin fleet will have landed at least 80 percent of the 2012 butterfish mortality cap on trips that land 2,500 lb or more of longfin have only recently become available. If implementation of this closure is delayed to solicit prior public comment, the butterfish mortality cap for Trimester 1 will be exceeded, thereby undermining the conservation objectives of the FMP. Such overage would have to be deducted from that portion of the bycatch cap allocated to Trimester 3. This would have adverse economic consequences for those that fish for longfin in the fall. The AA further finds, pursuant to 5 U.S.C. 553(d)(3), good cause to waive the 30-day delayed effectiveness period for the reasons stated above.

Authority: 16 U.S.C. 1801 et seq.

Dated: April 12, 2012.
Carrie Selberg,
Acting Director, Office of Sustainable Fisheries, National Marine Fisheries Service.

[FR Doc. 2012-9230 Filed 4-12-12; 4:15 pm]

BILLING CODE 3510-22-P